DEPARTMENT OF ENERGY

Federal Energy Regulatory Commission

Combined Notice of Filings #1

Take notice that the Commission received the following electric corporate filings:

Docket Numbers: EC06-48-005.

Applicants: Westar Energy, Inc.

Description: Request to Terminate Mitigation Measures and Reporting Requirement of Westar Energy, Inc.

Filed Date: 4/13/16.

Accession Number: 20160413-5276.

Comments Due: 5 p.m. ET 5/4/16.

Docket Numbers: EC16-101-000.

Applicants: White Pine Solar, LLC, White Oak Solar, LLC.

Description: Application for Authorization Under Section 203 of the Federal Power Act and Request for Expedited Action of White Pine Solar, LLC, et. al.

Filed Date: 4/13/16.

Accession Number: 20160413-5258.

Comments Due: 5 p.m. ET 5/4/16.

Take notice that the Commission received the following exempt wholesale generator filings:

Docket Numbers: EG16-87-000.

Applicants: Peak View Wind Energy LLC.

Description: Notice of Self-Certification of Exempt Wholesale Generator Status of Peak View Wind Energy LLC.

Filed Date: 4/14/16.

Accession Number: 20160414-5055.

Comments Due: 5 p.m. ET 5/5/16.

Take notice that the Commission received the following electric rate filings:

Docket Numbers: ER13-1431-001.

Applicants: Northampton Generating Company, L.P.

Description: Compliance filing: Informational Filing and Unopposed Request for Limited Waiver to be effective N/A.

Filed Date: 4/7/16.

Accession Number: 20160407-5195.

Comments Due: 5 p.m. ET 4/28/16.

Docket Numbers: ER16-1400-000.

Applicants: Golden Fields Solar I, LLC.

Description: Baseline eTariff Filing: Shared Facilities Agreement, FERC Electric Rate Schedule No. 1 to be effective 4/14/2016.

Filed Date: 4/13/16.

Accession Number: 20160413-5240.

Comments Due: 5 p.m. ET 5/4/16.

Docket Numbers: ER16-1401-000.

Applicants: Golden Fields Solar II, LLC.

Description: Baseline eTariff Filing: Shared Facilities Agreement, FERC Electric Rate Schedule No. 1 to be effective 4/14/2016.

Filed Date: 4/13/16.

Accession Number: 20160413-5242.

Comments Due: 5 p.m. ET 5/4/16.

Docket Numbers: ER16-1402-000.

Applicants: Golden Fields Solar III, LLC.

Description: Baseline eTariff Filing: Shared Facilities Agreement, FERC Electric Rate Schedule No. 1 to be effective 4/14/2016.

Filed Date: 4/13/16.

Accession Number: 20160413-5243.

Comments Due: 5 p.m. ET 5/4/16.

Docket Numbers: ER16-1403-000.

Applicants: Golden Fields Solar IV, LLC.

Description: Baseline eTariff Filing: Shared Facilities Agreement, FERC Electric Rate Schedule No. 1 to be effective 4/14/2016.

Filed Date: 4/13/16.

Accession Number: 20160413-5244.

Comments Due: 5 p.m. ET 5/4/16.

Docket Numbers: ER16-1404-000.

Applicants: New York Independent System Operator, Inc.

Description: Compliance filing: Compliance—BSM Rule Renewable and Self Supply Exemptions to be effective 10/9/2015.

Filed Date: 4/13/16.

Accession Number: 20160413-5246.

Comments Due: 5 p.m. ET 5/4/16.

Docket Numbers: ER16-1405-000.

Applicants: Western Spirit Clean Line LLC.

Description: Application for authorization to sell transmission service rights at negotiated rates, request for approval of capacity allocation process, and request for waivers of Western Spirit Clean Line LLC.

Filed Date: 4/13/16.

Accession Number: 20160413-5257.

Comments Due: 5 p.m. ET 5/4/16.

Docket Numbers: ER16-1406-000.

Applicants: Peak View Wind Energy LLC.

Description: Baseline eTariff Filing: Application for Market-Based Rate Authorization to be effective 6/14/2016.

Filed Date: 4/14/16.

Accession Number: 20160414-5047.

Comments Due: 5 p.m. ET 5/5/16.

Docket Numbers: ER16-1406-001.

Applicants: Peak View Wind Energy LLC.

Description: Tariff Amendment: Supplement to April 14, 2016 Market-Based Rate Application to be effective 6/14/2016.

Filed Date: 4/14/16.

Accession Number: 20160414-5054.

Comments Due: 5 p.m. ET 5/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2016.
Kimberly D. Bose,
Secretary.

[FR Doc. 2016-09093 Filed 4-19-16; 8:45 am]

BILLING CODE 6717-01-P